DEPARTMENT OF ENERGY

Federal Energy Regulatory Commission

[Docket Nos. RP08-484-000; RP08-484-001]

Colorado Interstate Gas Company; Notice of Technical Conference

September 17, 2008.

Take notice that the Commission will convene a technical conference in the above-referenced proceeding on Tuesday, October 7, 2008, at 10 a.m. (EDT), in a room to be designated at the offices of the Federal Energy Regulatory Commission, 888 First Street, NE., Washington, DC 20426.

The Commission's August 28, 2008 Order ¹ directed that a technical conference be held to address the issues raised by Colorado Interstate Gas Company's (CIG) August 1, 2008 and August 8, 2008 tariff filings to modify its penalty crediting mechanism. Commission Staff and parties will have the opportunity to discuss all of the issues raised by CIG's filing including, but not limited to, technical, engineering and operational issues, and issues related to the interpretation of tariff provisions governing CIG's penalty crediting mechanism.

¹ Colorado Interstate Gas Co., 124 FERC ¶ 61,191 (2008).

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Timothy Duggan at (202) 502-8326 or e-mail Timothy.Duggan@ferc.gov.

Kimberly D. Bose,
Secretary.

[FR Doc. E8-22262 Filed 9-23-08; 8:45 am]

BILLING CODE 6717-01-P